NUCLEAR REGULATORY COMMISSION

[NRC-2015-0203]

Instructions for Recording and Reporting Occupational Radiation Dose Data

AGENCY: Nuclear Regulatory Commission.

ACTION: Draft regulatory guide; request for comment.

SUMMARY: The U.S. Nuclear Regulatory Commission (NRC) is issuing for public comment draft regulatory guide (DG), DG-8030, “Instructions for Recording and Reporting Occupational Radiation Dose Data.” This proposed guide has been revised to incorporate additional information identified since revision 2 of Regulatory Guide (RG) 8.7 was issued. The proposed revision (revision 3) describes methods that the NRC staff considers acceptable for licensees to use for the preparation, retention, and reporting of records of occupational radiation doses. DG-8030, includes changes in the process a licensee needs to follow in order to determine monitoring for occupational exposure, determining prior doses, recording monitoring results, and reporting the results, when required. In addition, this revision references revised versions of NRC Form 4, “Cumulative Occupational Dose History,” and NRC Form 5, “Occupational Dose Record for a Monitoring Period,” as well as detailed instructions for completing these forms.

DATES: Submit comments by October 27, 2015. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal rulemaking Web site: Go to http://www.regulations.gov and search for Docket ID NRC-2015-0203. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12H08, U.S. Nuclear Regulatory Commission, Washington, DC 20555-0001.

For additional direction on accessing information and submitting comments, see “Obtaining Information and Submitting Comments” in the SUPPLEMENTARY INFORMATION section of this document.

FOR FURTHER INFORMATION CONTACT: Luis Benevides, telephone: 301-415-2457, email: Luis.Benevides@nrc.gov and Harriet Karagiannis, telephone: 301-415-2493, email: Harriet.Karagiannis@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2015-0203 when contacting the NRC about the availability of information regarding this document. You may obtain publically-available information related to this document, by any of the following methods:

• Federal Rulemaking Web site: Go to http://www.regulations.gov and search for Docket ID NRC-2015-0203.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if available in ADAMS), is provided the first time that a document is referenced. The DG is electronically available in ADAMS under Accession No. ML15169A218.

• NRC's PDR: You may examine and purchase copies of public documents at the NRC's PDR, Room O1-F21, One White Flint North, 11555 Rockville Pike, Rockville, Maryland 20852.

B. Submitting Comments

Please include Docket ID NRC-2015-0203 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The draft regulatory guide entitled, “Instructions for Recording and Reporting Occupational Radiation Dose Data,” is temporarily identified by its task number, DG-8030 (ADAMS Accession No. ML15169A218). DG-8030 is proposed revision 3 of RG 8.7.

The NRC issued revision 2 of RG 8.7 in November 2005 (ADAMS Accession No. ML052970092), to provide guidance on acceptable program for the preparation, retention, and reporting of records of occupational radiation doses.

On December 4, 2007, the NRC made changes in part 19 of Title 10 of the Code of Federal Regulations (CFR), “Notices, Instructions and Reports to Workers: Inspection and Investigations;” 10 CFR 19.13, “Notifications and Reports to Individuals,” and revised the definition of the total effective dose equivalent (TEDE) in 10 CFR part 20, “Standards for Protection Against Radiation;” 10 CFR 20.1003, “Definitions;” and 10 CFR part 50, “Domestic Licensing of Production and Utilization Facilities;” 10 CFR 50.2, “Definitions” (72 FR 68043). Previously, the definition of the TEDE was the sum of the deep dose equivalent (DDE) to account for external exposure and the committed effective dose equivalent (CEDE) to account for internal exposure. Under the revised rule, the TEDE was redefined by replacing the DDE with the effective dose equivalent for external exposure, hereafter referred to as the EDEX.

As a result of the definition change to the TEDE, there is a contradiction with the current regulatory guidance. The revised TEDE definition also affected the content of NRC Forms 4 and 5 in that the EDEX is now a quantity to be recorded when monitoring external dose. The term “total organ dose equivalent” (TODE) has also been added in the forms to denote the sum of the deep dose equivalent (DDE) and the committed dose equivalent (CDE) to the organ receiving the highest dose, to be consistent with the regulations described in 10 CFR 20.2106(a)(6).

The NRC staff has estimated that NRC Forms 4 and 5 will become effective in January 2016.

III. Backfitting and Issue Finality

The first issuance of new guidance on a new rule provision does not constitute backfitting, inasmuch as the guidance on the new rule provision must be consistent with the regulatory requirements in the new rule provision, and the backfitting basis for the new rule provision should also be applicable to the issuance of guidance on that new rule provision. The statement of considerations for the 2007 revisions to parts 19 and 20 stated that the specific changes made to the regulations did not constitute “backfitting” as defined in 10 CFR 50.109.

Therefore, for licensees subject to the provisions of 10 CFR part 50 and/or part 52, the first issuance of guidance addressing new provisions of 10 CFR parts 19 and 20 (if finalized), would not constitute issuance of a new or different staff position within the meaning of the definition of “backfitting” in 10 CFR 50.109, or constitute an action inconsistent with any of the issue finality provisions in 10 CFR part 52. Accordingly, no further consideration of backfitting is needed to support issuance of this draft regulatory guide for public comment.

Dated at Rockville, Maryland, this 24th day of August, 2015.
For the Nuclear Regulatory Commission.
Thomas H. Boyce,
Chief, Regulatory Guidance and Generic Issues Branch, Division of Engineering, Office of Nuclear Regulatory Research.

[FR Doc. 2015-21306 Filed 8-27-15; 8:45 am]

BILLING CODE 7590-01-P